INTERNATIONAL TRADE COMMISSION

[Investigation Nos. TA-131-045 and TPA-105-006]

U.S.-UK Trade Agreement: Advice on the Probable Economic Effect of Providing Duty-free Treatment for Currently Dutiable Imports

AGENCY: United States International Trade Commission.

ACTION: Cancellation of hearing.

SUMMARY: The Commission has cancelled the hearing scheduled for January 31, 2019 due to the lapse of appropriation between December 22, 2018 and January 25, 2019 and the inability to receive or accept requests to appear or prehearing briefs.

DATES: January 29, 2019.

FOR FURTHER INFORMATION CONTACT: Project Leader David Guberman (202-708-1396 or david.guberman@usitc.gov) or Deputy Project Leader Amanda Lawrence (202-205-3185 or amanda.lawrence@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On December 7, 2018, the United States International Trade Commission (USITC) instituted the above referenced investigations (83 FR 64154, December 13, 2018) and scheduled a public hearing for January 31, 2019. However, due to the lapse in appropriation (December 22, 2018 to January 25, 2019), the USITC was unable to receive or accept requests to appear at the hearing or prehearing briefs from potential witnesses. As a result, the USITC has cancelled the January 31, 2019 hearing. The USITC anticipates rescheduling the hearing, which will be announced in a forthcoming Federal Register notice.

By order of the Commission.
Issued: January 30, 2019.
Lisa Barton,
Secretary to the Commission.

[FR Doc. 2019-00866 Filed 2-1-19; 8:45 am]

BILLING CODE 7020-02-P